DEPARTMENT OF STATE

Bureau of Oceans and International Environmental and Scientific Affairs (OES)

[Public Notice 4245]

Proposed U.S.-Chile Environmental Cooperation Agreement

AGENCY: Department of State.

ACTION: Notice and request for comments.

SUMMARY: The Department of State, through its Bureau of Oceans and International Environmental and Scientific Affairs, informs the public that negotiations for a U.S.-Chile Environmental Cooperation Agreement (ECA) are expected to commence in Santiago, Chile, on January 15, 2003. This notice seeks comment from the public regarding priority areas for bilateral environmental cooperation.

DATES: Comments related to priority areas for bilateral environmental cooperation with Chile must be received by noon (EST) on January 13, 2003, in order to ensure timely input into the negotiations.

ADDRESSES: Comments may be sent by fax to 202-647-5947 or 202-647-1052.

FOR FURTHER INFORMATION CONTACT: Luke Ney, Department of State, Bureau of Oceans and International Environmental and Scientific Affairs, Office of Environmental Policy, telephone 202-647-6867, e-mail neyla@state.gov.

SUPPLEMENTARY INFORMATION: On December 11, 2002 the governments of the United States of America and the Republic of Chile completed negotiations on a comprehensive bilateral Free Trade Agreement (FTA). The Environment Chapter of this FTA outlines a two-part structure for environmental cooperation: (1) Eight ongoing projects that are to commence immediately, and (2) the future establishment of an Environmental Cooperation Agreement (ECA) that is intended to serve as a framework for certain bilateral cooperative environmental activities. The Environment Chapter furthers the objectives of the Trade Act of 2002, including Section 2101(c)(3), which calls upon the President to “seek to establish consultative mechanisms among parties to trade agreements to strengthen the capacity of the United States trading partners to develop and implement standards for the protection of the environment and human health based on sound science.”

The proposed ECA will, inter alia, establish a framework for environmental cooperation and create mechanisms that provide for periodic work programs, allow for consultation between the parties, and make available opportunities for information exchange and public comment. The ECA may include work in fields of activity such as improving capacity for environmental compliance assurance, promoting sustainable management of environmental resources, developing and implementing economic instruments for environmental management, and in other fields as may be agreed by the Parties. Implementation activities may include, inter alia, exchanges of technical specialists, organization of joint conferences, and support for collaboration projects.

Jeff Lunstead,
Director, Office of Environmental Policy, Bureau of Oceans and International Environmental and Scientific Affairs, Department of State.

[FR Doc. 02-33006 Filed 12-30-02; 8:45 am]

BILLING CODE 4710-09-P